DEPARTMENT OF COMMERCE

National Oceanic and Atmospheric Administration

RIN 0648-BA60

Fisheries of the Caribbean, Gulf of Mexico, and South Atlantic; Amendment 5 to the Golden Crab Fishery Management Plan of the South Atlantic

AGENCY: National Marine Fisheries Service (NMFS), National Oceanic and Atmospheric Administration (NOAA), Commerce.

ACTION: Notice of Intent (NOI) to prepare an environmental impact statement (EIS); request for comments.

SUMMARY: NMFS, Southeast Region, in collaboration with the South Atlantic Fishery Management Council (Council), intends to prepare an EIS to describe and analyze a range of alternatives for management actions to be included in Amendment 5 to the Golden Crab Fishery Management Plan of the South Atlantic Region (Amendment 5). These alternatives will consider measures to develop a catch share program for the golden crab fishery. The purpose of this NOI is to solicit public comments on the scope of issues to be addressed in the EIS.

DATES: Written comments on the scope of issues to be addressed in the EIS will be accepted from January 12 to February 14, 5 p.m., Eastern time.

ADDRESSES: You may submit comments, identified by RIN 0648-BA60, by any one of the following methods:

• Electronic Submissions: Submit all electronic public comments via the Federal e-Rulemaking Portal http://www.regulations.gov.

• Mail: Karla Gore, Southeast Regional Office, NMFS, 263 13th Avenue South, St. Petersburg, FL 33701.

Instructions: No comments will be posted for public viewing until after the comment period is over. All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, enter “NOAA-NMFS-2010-0279” in the keyword search, then select “Send a Comment or Submission.” NMFS will accept anonymous comments (enter N/A in the required fields if you wish to remain anonymous). You may submit attachments to electronic comments in Microsoft Word, Excel, WordPerfect, or Adobe PDF file formats only.

FOR FURTHER INFORMATION CONTACT: Karla Gore; phone: (727) 824-5305.

SUPPLEMENTARY INFORMATION: The Golden Crab FMP relies on a system of traditional fishery management plus limited access. Traditional fishery management includes: measures to provide biological protection to the resource (escape gaps in traps and no retention of female crabs); gear regulations (allowable gear, requirement for degradable panel, tending requirements, gear identification, and maximum trap size by zone); depth limitations and prohibition of possession of whole fish or fillets of snapper-grouper species; data collection requirements (vessel/fishermen and dealer/processor reporting); and a framework procedure to adjust the management program.

The golden crab fishery resource is not overfished or undergoing overfishing. However, there are underlying social and economic problems resulting from gear conflicts, high regulatory costs, and limited markets. To solve these social and economic problems, managers have increasingly turned to various forms of controlled access or effort limitation. Combining more traditional fishery management measures with controlled access has allowed the Council to solve problems in the golden crab fishery.

The Council is considering development and implementation of a catch share program for golden crab in order to: avoid a derby fishery from developing; place limitations on vessel harvest similar to historical participation; and maintain fishermen harvesting flexibility. Recent information indicates increased participation and renewed interest in participation in the golden crab fishery due to technological improvements that have increased quality, price, and marketability of golden crab.

NMFS, in collaboration with the Council, will develop an EIS to describe and analyze management alternatives to address the management needs described above. Those alternatives will include a “no action” alternative regarding each action.

In accordance with NOAA's Administrative Order 216-6, Section 5.02(c), Scoping Process, NMFS, in collaboration with the Council, has identified preliminary environmental issues as a means to initiate discussion for scoping purposes only. These preliminary issues may not represent the full range of issues that eventually will be evaluated in the EIS.

Copies of an information packet will be available from NMFS (see ADDRESSES).

Following publication of this NOI, the Council will conduct public scoping meetings to determine the range of issues to be addressed in the draft EIS (DEIS) and the associated Amendment 5. After the DEIS associated with Amendment 5 is completed, it will be filed with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

Scoping Meetings, Times, and Locations

All meetings will begin at 3 p.m. In addition to Amendment 5, the Council intends to scope additional amendments at this series of meetings. Separate NOIs will be prepared for each amendment. The meetings will be physically accessible to people with disabilities. Requests for information packets or for sign language interpretation or other auxiliary aids should be directed to the Council (see FOR FURTHER INFORMATION CONTACT).

Monday, January 24, 2011-Hilton New Bern/Riverfront, 100 Middle Street, New Bern, NC 28560; phone 252-638-3585.

Wednesday, January 26, 2011-Crowne Plaza Charleston Airport, 4831 Tanger Outlet Boulevard, North Charleston, SC 29418; phone 843-744-4422.

Thursday, January 27, 2011-Mighty Eighth Air Force Museum, 175 Bourne Avenue, Pooler, GA 31322; phone 912-748-8888.

Monday, January 31, 2011-Jacksonville Marriott, 4670 Salisbury Road, Jacksonville, FL 32256; phone 904-296-2222.

Tuesday, February 1, 2011-International Palms Resort, 1300 N. Atlantic Avenue, Cocoa Beach, FL 32931; phone 321-783-2271.

Thursday, February 3, 2011-Key Largo Grande Resort, 97000 Overseas Resort, Key Largo, FL 33037; phone 305-852-5553.

Authority: 16 U.S.C. 1801 et seq.

Dated: December 28, 2010.
Emily H. Menashes,
Acting Director, Office of Sustainable Fisheries, National Marine Fisheries Service.

[FR Doc. 2010-33099 Filed 12-30-10; 8:45 am]

BILLING CODE 3210-22-P